DEPARTMENT OF ENERGY

National Nuclear Security Administration

Notice of Change in the Process for the Site-Wide Environmental Impact Statement for Continued Operation of Sandia National Laboratories, New Mexico and for the Supplemental Environmental Impact Statement for Enhanced Plutonium Facility Utilization at Lawrence Livermore National Laboratory

AGENCY: National Nuclear Security Administration, Department of Energy.

ACTION: Notice.

SUMMARY: The National Nuclear Security Administration (NNSA), a semi-autonomous agency within the United States (U.S.) Department of Energy (DOE), announces it will not perform certain National Environmental Policy Act (NEPA) activities previously indicated in the Notice of Intent To Prepare a Site-Wide Environmental Impact Statement (SWEIS) for Continued Operation of Sandia National Laboratories, New Mexico (SNL/NM) in Albuquerque, New Mexico (SNL/NM NOI) and the Notice of Intent To Prepare a Supplemental Environmental Impact Statement (SEIS) for Enhanced Plutonium Facility Utilization at Lawrence Livermore National Laboratory (LLNL) in Livermore, California (LLNL NOI). Due to intervening regulatory changes, NNSA will not publish a draft SNL/NM SWEIS or a draft LLNL SEIS or hold additional public hearings for the LLNL SEIS. When NNSA publishes the final SNL/NM SWEIS and the final LLNL SEIS, NNSA will publish its Records of Decision (RODs) for both at the same time as the final documents.

FOR FURTHER INFORMATION CONTACT: For additional information about this Notice, please contact Lynn Alexander, NEPA Compliance Officer, National Nuclear Security Administration; telephone: 202-302-0141; or email at: NEPA@nnsa.doe.gov.

SUPPLEMENTARY INFORMATION: Consistent with Executive Order (E.O.) 14154, Unleashing American Energy, and with the National Environmental Policy Act of 1969, as amended (42 U.S.C. 4321 et seq.), the Council on Environmental Quality (CEQ) repealed its NEPA regulations and required agencies to revise their NEPA implementing procedures (90 FR 10610, February 25, 2025, Removal of National Environmental Policy Act Implementing Regulations; effective April 22, 2025). Accordingly, DOE issued new DOE NEPA Implementing Procedures on June 30, 2025, and removed most of the previous DOE NEPA implementing procedures from 10 CFR part 1021, National Environmental Policy Act Implementing Procedures, in an Interim Final Rule on July 3, 2025 (90 FR 29676, Revision of National Environmental Policy Act Implementing Procedures). DOE's amended NEPA regulations rescind process-oriented requirements (which are now outlined in the DOE NEPA Implementing Procedures document issued June 30, 2025) and retain DOE's Categorical Exclusions and emergency procedures. The regulatory update and new DOE NEPA Implementing Procedures align with E.O. 14154 and significantly streamline NEPA processes by focusing on statutory requirements while retaining meaningful review of potential environmental impacts. Neither NEPA nor the new DOE NEPA Implementing Procedures require NNSA to publish draft environmental documents for public comment, hold public hearings on a draft environmental document, or wait for 30 days after issuance of a final environmental impact statement to publish a ROD. While NNSA indicated in the SNL/NM NOI that it would publish a draft of the SWEIS for Continued Operation of SNL/NM (DOE/EIS-0556) for public comment, consistent with NEPA and with DOE's new DOE NEPA Implementing Procedures, with respect to SNL/NM, NNSA will not issue a draft SNL/NM SWEIS for public comment or wait 30 days between the final SWEIS and issuance of the ROD. While NNSA indicated in the LLNL NOI that it would publish a draft of the LLNL SEIS for Enhanced Plutonium Facility Utilization at LLNL in Livermore, California (DOE/EIS-0547-S1) for public comment, consistent with NEPA and DOE's new DOE NEPA Implementing Procedures, NNSA will not issue a draft LLNL SEIS for public comment, hold a public hearing on a draft, or wait 30 days between the final LLNL SEIS and issuance of the ROD.

NEPA Activity Already Conducted on the SWEIS for Continued Operation of SNL/NM

NNSA is preparing the SNL/NM SWEIS pursuant to the requirements of NEPA. In the SNL/NM NOI (April 21, 2023; 77 FR 24607) NNSA invited all interested agencies (Federal, state, and local), Native American Tribes, public interest groups, local businesses, and members of the general public to provide comments on the scope of the environmental impact statement, environmental issues, and other potential alternatives that NNSA should consider in the SNL/NM SWEIS. NNSA held two public scoping meetings regarding the SNL/NM SWEIS in May 2023 and collected comments from the interested parties for 45 days. NNSA has considered and incorporated comments received during the public scoping period and expects to publish the final SNL/NM SWEIS and simultaneous publication of its ROD in late 2025.

NEPA Activity Already Conducted on the SEIS for Enhanced Plutonium Facility Utilization at LLNL

In the LLNL NOI (January 13, 2025; 90 FR 2678), NNSA announced its intent to prepare the LLNL SEIS and invited all interested agencies (Federal, state, and local), Native American Tribes, public interest groups, local businesses, and members of the general public to provide comments on the scope of the environmental impact statement, environmental issues, and other potential alternatives that NNSA should consider in the LLNL SEIS. NNSA held a public scoping meeting regarding the LLNL SEIS in January 2025 and collected comments from the interested parties for 45 days. NNSA has considered and incorporated comments received during the public scoping period and expects to publish the final LLNL SEIS and simultaneous publication of its ROD in early 2026.

Signing Authority

This document of the Department of Energy was signed on October 2, 2025, by Brandon M. Williams, Under Secretary for Nuclear Security and NNSA Administrator, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 14, 2025.
Treena V. Garrett,
Federal Register Liaison Officer, U.S. Department of Energy.

[FR Doc. 2025-20208 Filed 11-17-25; 8:45 am]

BILLING CODE 6450-01-P